ENVIRONMENTAL PROTECTION AGENCY

[FRL-7244-3]

Zellwood Groundwater Superfund Site/Zellwood, FL; Notice of Proposed Settlement

AGENCY: Environmental Protection Agency.

ACTION: Notice of proposed settlement.

SUMMARY: Under section 122 of the Comprehensive Environmental Response, Compensation, and Liability Act (CERCLA), Industrial Container Services, LLC and Industrial Container Services—FL, LLC (Settling Respondent) entered into a Prospective Purchaser Agreement (PPA) with the Environmental Protection Agency (EPA), whereby the Respondent, in exchange for the United States' covenant not to sue, agrees to pay EPA the fair market value of the property that is the subject of the PPA and further agrees to establish and maintain financial security in order to guarantee performance of the work set forth in the September 17, 2001 remedial design/remedial action (RD/RA) consent decree for the Zellwood Groundwater Superfund Site (Site) located in Zellwood, Orange County, Florida. EPA will consider public comments on the proposed settlement for thirty days. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division, 61 Forsyth Street, SW., Atlanta, Georgia 30303, (404) 562-8887.

Written comment may be submitted to Mr. Ray Strickland at the above address within 30 days of the date of publication.

Dated: June 26, 2002.
Anita L. Davis,
Acting Chief, CERCLA Program Services Branch, Waste Management Division.

[FR Doc. 02-17316 Filed 7-9-02; 8:45 am]

BILLING CODE 6560-50-P